DEPARTMENT OF TRANSPORTATION

Federal Railroad Administration

Tupelo, Mississippi Railroad Relocation Project

AGENCY: Federal Railroad Administration (FRA), U.S. Department of Transportation (DOT).

ACTION: Notice of Availability of the Draft Environmental Impact Statement and public hearing for the Tupelo, Mississippi Railroad Relocation Project (Project).

SUMMARY: The Federal Railroad Administration announces the availability of the Tupelo, Mississippi Railroad Relocation Project Draft Environmental Impact Statement (DEIS) for public review and comment.

DATES: FRA invites interested Members of Congress, state and local governments, other Federal agencies, Native American tribal governments, organizations, and members of the public to provide comments on the DEIS. The public comment period began with EPA's publication of the NOA on June 24, 2011. Because of the anticipated interest in the Project, the comment period will continue until September 12, 2011. Written and oral comments will be given equal weight, and FRA and MDOT will consider all comments received or postmarked by that date in preparing the Final EIS. Comments received or postmarked after that date will be considered to the extent practicable.

The public hearing on the DEIS will be held on Thursday, August 11, 2011, from 4 to 7 p.m. at the BancorpSouth Arena located at 375 East Main Street, Tupelo, Mississippi 38804. The hearing will be held in meeting rooms 3, 4 and 5 and attendees are encouraged to park on the west side of the building as that is more convenient to the meeting rooms.

ADDRESSES: Comments may be submitted at the public hearings both verbally and in writing. Written comments may be submitted until September 12, 2011. Comment sheets are available on the project Web site at http://www.gomdot.com/Home/Projects/Studies/Northern/TupeloRailroadRelocation/Home.aspx. The comment sheets may be submitted by FAX to 601-359-7355 or mailed to MDOT at Mississippi Department of Transportation, Environmental Division (87-01), P.O. Box 1850, Jackson, MS 39215-9947. Comments may also be submitted by e-mail at http://www.gomdot.com/Home/AboutMDOT/EmailUs.aspx?Topic=Environmental.

FOR FURTHER INFORMATION CONTACT: For further information regarding the DEIS or the Project, please contact: Ms. Kim Thurman, Environmental Division Manager, Mississippi Department of Transportation, P.O. Box 1850, Jackson, MS 39215 (telephone 601 359-7920); or by e-mail at Kthurman@mdot.state.ms.us with “Tupelo Railroad Relocation Project” in the subject heading, or Mr. John Winkle, Transportation Industry Analyst, Office of Passenger Programs, Federal Railroad Administration, 1200 New Jersey Ave., SE., Room W38-311, Washington, DC 20590, (telephone 202 493-6067), or by e-mail at John.Winkle@DOT.Gov with “Tupelo Railroad Relocation Project” in the subject heading.

SUPPLEMENTARY INFORMATION: The DEIS was prepared pursuant to the National Environmental Policy Act of 1969 (NEPA), as amended, 42 U.S.C. 4321 et seq., the Council on Environmental Quality NEPA implementing regulations, 40 CFR Parts 1500-1508, and the FRA NEPA procedures, 64 FR 28545 (May 26, 1999). FRA is the lead Federal agency and the Mississippi Department of Transportation (MDOT) is the lead State agency. The Environmental Protection Agency (EPA) included the DEIS in the Notice of Availability (NOA) published on June 24, 2011.

The DEIS evaluates the environmental impacts of the Tupelo, Mississippi Railroad Relocation Project, through which MDOT proposes to relocate an existing BNSF Railway Company (BNSF) main line. Currently, the BNSF line runs at grade and through several busy intersections in the City of Tupelo. The purpose of the Project is to improve mobility and safety by reducing roadway congestion caused by the operation of BNSF trains through the City, particularly at the intersection of Main Street (US 278/MS 6) and Gloster Street (MS 145). The build alternatives considered included operational improvements, alternative corridors, and in-town options such as railroad and highway grade separations. Through the alternatives development process, an elevated rail viaduct with a relocated interchange yard was considered to be the only reasonable build alternative and, therefore, was brought forward for detailed study.

Potential environmental impacts of the No-Build Alternative include noise, safety and mobility impacts, while the primary impacts of the Build Alternative include high construction costs, and impacts to farmlands, cultural and historic resources, streams, floodplains and utilities. Mitigation strategies are described to avoid or minimize potential impacts. Such strategies would be further refined in subsequent environmental review.

Availability of the DEIS

MDOT has placed copies of the Draft EIS and appendices at the following locations:

Tupelo City Hall, 71 East Troy Street, Tupelo, MS 38804.

Lee County Public Library, 219 N. Madison Street, Tupelo, MS 38801.

Lee County Chancery Clerk, 200 W. Jefferson Street, Tupelo, MS 38804.

Mississippi Department of Transportation, Environmental Division, 401 North West Street, Jackson, MS 39201.

Mississippi Department of Transportation, First District Headquarters, 1901 N. Gloster Street, Tupelo, MS 38803.

Federal Railroad Administration, Region 3, 61 Forsyth Street—Suite 16T20, Atlanta, GA 30303-3104.

In addition, electronic versions of the Draft EIS and appendices are available through FRA's Web site at http://www.fra.dot.gov/rpd/freight/3002.shtml and the MDOT Web site at http://www.gomdot.com/Home/Projects/Studies/Northern/TupeloRailroadRelocation/Home.aspx.

Issued in Washington, DC, on July 8, 2011.
Mark E. Yachmetz,
Associate Administrator for Railroad Policy & Development.

[FR Doc. 2011-17684 Filed 7-13-11; 8:45 am]

BILLING CODE 4910-06-P